DEPARTMENT OF STATE

[Public Notice 12943]

30-Day Notice of Proposed Information Collection: JADE Act Questionnaire

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to March 16, 2026.

ADDRESSES: Written comments and recommendations for the proposed information collection should be sent within 30 days of publication of this notice to www.reginfo.gov/public/do/PRAMain. Find this information collection by selecting “Currently under 30-day Review—Open for Public Comments” or by using the search function.

SUPPLEMENTARY INFORMATION:

• Title of Information Collection: JADE Act Questionnaire.

• OMB Control Number: 1405-0236.

• Type of Request: Renewal of a currently approved collection.

• Originating Office: Visa Office.

• Form Number: DS-5537.

• Respondents: Burmese Applicants for U.S. Visas.

• Estimated Number of Respondents: 22,800.

• Estimated Number of Responses: 22,800.

• Average Time per Response: 30 minutes.

• Total Estimated Burden Time: 11,400 hours.

• Frequency: Once per application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Consular officers use the DS-5537 to evaluate and adjudicate an applicant's eligibility for a visa in accordance with the Tom Lantos Block Burmese JADE (Junta's Anti-Democratic Efforts) Act of 2008, Public Law 110-286. The JADE Act renders certain individuals involved in specified Burmese organizations or activities, as well as their immediate family members, ineligible for U.S. visas.

Methodology

All Burmese nationals applying for a U.S. visa are required to complete the JADE Act questionnaire. The form is available on Embassy Rangoon's website, or consular staff may provide the applicant with a copy of the form directly. Immigrant visa applicants receive an email with detailed guidance for the interview and the questionnaire as an attachment. Nonimmigrant visa applicants typically receive the questionnaire through their appointment confirmation or from the embassy website. Applicants are required to bring the completed and signed form to the interview.

Stuart R Wilson,
Deputy Assistant Secretary, Bureau of Consular Affairs, Department of State.

[FR Doc. 2026-02790 Filed 2-11-26; 8:45 am]

BILLING CODE 4710-06-P